DEPARTMENT OF HOMELAND SECURITY

Coast Guard

33 CFR Part 165

[CGD13-03-001]

RIN 1625-AA00 (Formerly RIN 2115-AA97)

Safety Zone Regulation; Fort Vancouver Fireworks Display, Columbia River, Vancouver, WA

AGENCY: Coast Guard, DHS.

ACTION: Notice of implementation of regulation.

SUMMARY: The Captain of the Port Portland will begin enforcing the safety zone for the Fort Vancouver Fireworks Display established by 33 CFR 165.1314 on May 28, 2003. The Captain of the Port, Portland, Oregon, is taking this action to safeguard watercraft and their occupants from safety hazards associated with the fireworks display. Entry into this safety zone is prohibited unless authorized by the Captain of the Port.

DATES: 33 CFR 165.1314 will be enforced July 4, 2003, from 9:30 p.m. (P.d.t.) until 11 p.m. (P.d.t.).

SUPPLEMENTARY INFORMATION: On May 28, 2003, the Coast Guard published a final rule (68 FR 31609) establishing safety zones, in 33 CFR 165.1314, to provide for the safety of vessels in the vicinity of fireworks displays one of which is the Fort Vancouver fireworks display. The safety zone will include all waters of the Columbia River at Vancouver, Washington bounded by a line commencing at the northern base of the Interstate 5 highway bridge at latitude 45°37″16.5 seconds N, longitude 122°40″22.5′ W; thence south along the Interstate 5 highway bridge to Hayden Island, Oregon at latitude 45°36″51.5′ N, longitude 122°40″39′ W; thence east along Hayden Island to latitude 45°36″36′ N, longitude 122°39″48′ W (not to include Hayden Bay); thence north across the river thru the preferred channel buoy, RG Fl(2+1)R 6s, to the Washington shoreline at latitude 45°37′1.5′ N, longitude 122°39″29′ W; thence west along the Washington shoreline to the point of origin. Entry into this zone is prohibited unless authorized by the Captain of the Port or his designee. The Captain of the Port Portland will enforce this safety zone on July 4, 2003, from 9:30 p.m. (P.d.t.) until 11 p.m. (P.d.t.). The Captain of the Port may be assisted by other Federal, State, or local agencies in enforcing this security zone.

FOR FURTHER INFORMATION CONTACT: Captain of the Port Portland, 6767 N. Basin Ave, Portland, OR 97217 at (503) 240-9370 to obtain information concerning enforcement of this rule.

Dated: May 27, 2003.
Paul D. Jewell,
Captain, Coast Guard, Captain of the Port, Portland.

[FR Doc. 03-13847 Filed 6-2-03; 8:45 am]

BILLING CODE 4910-15-P